DEPARTMENT OF DEFENSE

Department of the Army; Corps of Engineers

Intent to Prepare a Draft Environmental Impact Statement (DEIS) for the Nourishment of 7.25 Miles of Beach, the Repositioning of the New River Inlet Channel, and the Implementation of an Inlet Management Plan, in North Topsail Beach, Onslow County, NC

Correction

In notice document 05-9995 beginning on page 28924 in the issue of Thursday, May 19, 2005, make the following corrections:

1. On page 28924, in the third column, in the fifth line, the sentance should read, “The new channel will be centrally located and the proposal will be to maintain that position, which essentially will be located perpendicular to the adjacent shorelines of North Topsail Beach and Onslow Beach.”

2. On page 28925, in the first column, in the Note paragraph, in the 13th line, “north” should read, “north end”.

3. On page 28926, in the first column, in paragraph 3. Issues, in the third line, “FIS” should read, “EIS”.

[FR Doc. C5-9995 Filed 5-27-05; 8:45 am]

BILLING CODE 1505-01-D